DEPARTMENT OF ENERGY

[OE Docket No. EA-484]

Application To Export Electric Energy; CFE International LLC

AGENCY: Office of Electricity, Department of Energy.

ACTION: Notice of application.

SUMMARY: CFE International LLC (Applicant or CFE International LLC) has applied for authorization to transmit electric energy from the United States to Mexico pursuant to the Federal Power Act.

DATES: Comments, protests, or motions to intervene must be submitted on or before August 10, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On June 29, 2020, CFE International LLC filed an application with DOE (Application or App.) to transmit electric energy from the United States to Mexico for a term of five years. CFE International LLC states that it “is a Delaware limited liability company with its principal place of business in Houston, Texas” and that it “is a wholly-owned, direct subsidiary of the Comisión Federal de Electricidad (`CFE'), which is itself wholly owned by the Mexican Federal Government.” App. at 1. CFE International LLC adds that it “does not directly or indirectly own, operate or control any electric generation facilities, electric transmission facilities, distribution facilities, or inputs to electric power production” Id. at 3-4.

CFE International LLC further states that it “will purchase the electric power to be exported in the markets in which it participates” from third parties, including, “electric utilities, federal power marketing agencies, qualifying cogeneration, small power production facilities and exempt wholesale generations . . . , independent system operators, regional transmission organization, and public utilities.” App. at 4. CFE International LLC contends that “any power [it purchases] for export would be surplus to the needs of those entities selling [the] power.” Id. at 4-5. Further, “the proposed exports will not impair or tend to impede the sufficiency of electric power supplies in the United States or the regional coordination of electric utility planning or operations.” Id. at 5.

CFE International LLC also “agrees to abide by the export limits contained in the relevant [proposed] export authorization of any [approved] transmission facilities,” and states that “[t]he controls that are inherent in any transaction that complies with all [reliability] requirements and the export limits imposed by the Department on the international transmission facilities are sufficient to ensure that exports by Applicant will not impede or tend to impede the coordinated use of transmission facilities” under the Federal Power Act. App. at 5-6.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning CFE International LLC's application to export electric energy to Mexico should be clearly marked with OE Docket No. EA-484. Additional copies are to be provided directly to Mónica Martínez, 825 Town & Country Ln., Suite #1450, Houston, TX 77024; monica.martinez@cfeinternational.com; Andrea Zulbarán, 825 Town & Country Ln., Suite #1450, Houston, TX 77024; andrea.zulbaran@cfeinternational.com; Kenneth W. Irvin, 1501 K Street NW, Washington, DC 20005; kirwin@sidley.com; Sarah A. Tucker, 1501 K Street NW, Washington, DC 20005; stucker@sidley.com; Terence T. Healey, 60 State Street, 34th Floor, Boston, MA 02109; thealey@sidley.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on July 6, 2020.
Christopher Lawrence,
Management and Program Analyst, Transmission Permitting and Technical Assistance, Office of Electricity.

[FR Doc. 2020-14820 Filed 7-8-20; 8:45 am]

BILLING CODE 6450-01-P